ENVIRONMENTAL PROTECTION AGENCY

[ER-FRL-8989-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 35754).

Final Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, this is the final publication of this notice of availability of EPA comments in the Federal Register.

Draft EISs

EIS No. 20090378, ERP No. D-COE-F09806-MN, NorthMet Project, Proposes to Construct and Operate an Open Pit Mine and Processing Facility, Located in Hoyt Lakes—Babbitt Area of St. Louis County, MN

.

Summary: The project as proposed will have unsatisfactory impacts to surface water and groundwater from acid mine drainage and mobilization of metals and sulfates. The project will also have significant wetland impacts that are not adequately mitigated. In addition, the EIS does not adequately evaluate the fate and transport of pollutants between groundwater, surface water and wetlands, nor does it discuss financial assurance for closure and post-closure care. Rating EU3.

EIS No. 20090411, ERP No. D-BLM-K65383-CA, Clear Creek Management Area Resource Management Plan (RMP), Implementation, Portion of San Benito County and Fresno County, CA.

Summary: EPA does not object to the proposed project because it will help protect human health and safety and significantly improve environmental resources in the project area. Rating LO.

EIS No. 20090451, ERP No. D-FHW-F40451-FL, St. Johns River Crossing Project, Improved Highway Corridor and Bridge Crossing the St. John River between Clay and St. Johns Counties, FL.

Summary: EPA expressed environmental objections about significant wetland and habitat resource impacts. EPA also had concerns about air quality, noise, surface water and floodplain impacts. Rating EO2.

EIS No. 20100017, ERP No. D-NOA-L91035-00, Amendment 21 to the Pacific Coast Groundfish Fishery Management Plan, (FMP), Allocation of Harvest Opportunity between Sectors, Implementation, WA, OR and CA.

Summary: EPA does not object to the proposed action. Rating LO.

EIS No. 20100027, ERP No. D-AFS-K65384-CA, Big Grizzly Fuels Reduction and Forest Health Project, Proposes Vegetation Treatments, Eldorado National Forest, Georgetown Ranger District, Georgetown, CA.

Summary: EPA expressed environmental concerns about air quality impacts and requested a commitment to implement BMPs. Rating EC2.

Final EISs

EIS No. 20100019, ERP No. F-DOE-C06012-NY, West Valley Demonstration Project and Western New York Nuclear Service Center Decommissioning and/or Long-Term Stewardship, (DOE/EIS-0226-D Revised) City of Buffalo, Eric and Cattaraugus Counties, NY.

Summary: While EPA has no objection with the proposed action, EPA indicated that Phase 2 actions and NEPA documentation will be reevaluated at the end of Phase 1.

EIS No. 20100036, ERP No. F-IBR-K65382-CA, New Melones Lakes Area Resource Management Plan, Implementation, Tuolumne and Calaveras Counties, CA.

Summary: No comment letter was sent to the preparing agency.

EIS No. 20100039, ERP No. F-WAP-K08017-00, ADOPTION—Southwest Intertie Project, Construction and Operation, 500kV Transmission Line from the existing Midpoint substation near Shoshone, ID to a new substation site in the Dry Lake Valley of Las Vegas, NV area to a point near Delta, UT, Permits Approval and C.

Summary: No comment letter was sent to the preparing agency.

EIS No. 20100041, ERP No. F-FHW-F40379-MI, US-31 Holland to Grand Haven Project, Transportation Improvement to Reduce Traffic Congestion and Delay, Ottawa County, MI.

Summary: EPA's previous issues have been resolved; therefore, EPA does not object to the proposed action.

EIS No. 20100042, ERP No. F-COE-K39121-CA, Natomas Levee Improvement Program Phase 4a Landside Improvement Project, Issuing of 408 Permission and 404 Permits, California Department of Water Resources (DWR) and the California Central Valley Flood Protection Board, Sutter and Sacramento Counties, CA.

Summary: EPA continues to have environmental concerns about flood risk impacts and the need for a PM 2.5 modeling assessment and a general conformity determination.

EIS No. 20100044, ERP No. F-AFS-K65368-CA, Lower Trinity and Mad River Motorized Travel Management, Proposed to Prohibit Cross-County Motor Vehicle Travel Off Designated National Forest Transportation System (NFTS) Roads and Motorized Trails, Six River National Forest, CA.

Summary: EPA continues to have environmental concerns about the scope of the travel management planning process and routes proposed in impaired watersheds. EPA recommended the action include current roads and trails with known impacts and a thorough evaluation of all impacts to water resources.

EIS No. 20100058, ERP No. F-FHW-F40445-IN, I-69 Evansville to Indianapolis, Indiana Project, Section 2, Revised to Update the Stream Impacts, Oakland City to Washington, (IN-64 to US 50), Gibson, Pike and Daviess Counties, IN.

Summary: EPA's previous issues have been resolved; therefore, EPA does not object to the proposed action.

Dated: March 30, 2010.
Robert W. Hargrove,
Director, NEPA Compliance Division, Office of Federal Activities.

[FR Doc. 2010-7504 Filed 4-1-10; 8:45 am]

BILLING CODE 6560-50-P